DEPARTMENT OF DEFENSE

Office of the Secretary

[Transmittal No. 22-07]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-07 with attached Policy Justification.

Dated: July 29, 2024.
Patricia L. Toppings,
OSD Federal Register Liaison Officer, Department of Defense.

BILLING CODE 6001-FR-P

BILLING CODE 6001-FR-C

Transmittal No. 22-07

Notice of Proposed Issuance of Letter of Offer Pursuant to Section 36(b)(1) of the Arms Export Control Act, as amended

(i) Prospective Purchaser: Government of Pakistan

(ii) Total Estimated Value:

Major Defense Equipment * | $ 0 million
Other | $450 million
TOTAL | $450 million

Funding Source: National Funds

(iii) Description and Quantity or Quantities of Articles or Services under Consideration for Purchase: This Foreign Military Sales (FMS) Case is a follow-on effort and consolidation of prior F-16 sustainment and support cases to support the Pakistan Air Force F-16 fleet by reducing duplicate case activities and adding additional continued support elements.

Major Defense Equipment (MDE):

None

Non-MDE:

Included are U.S. Government and contractor engineering, technical, and logistics services for follow-on support of Pakistan's F-16 fleet to include participation in F-16 Aircraft Structural Integrity Program, Electronic Combat International Security Assistance Program, International Engine Management Program, Engine Component Improvement Program, and other technical coordination groups; aircraft and engine hardware and software modifications and support; aircraft and engine spare repair/return parts, accessories and support equipment; classified and unclassified software and software support; publications, manuals, and technical documentation; precision measurement, calibration, lab equipment, and technical support services; studies and surveys; and other related elements of aircraft maintenance and program support.

(iv) Military Department: Air Force (PK-D-QAP)

(v) Prior Related Cases, if any: PK-D-NAP, PK-D-SAF, PK-D-QAJ, PK-D-QCX

(vi) Sales Commission, Fee, etc., Paid, Offered, or Agreed to be Paid: None known at this time.

(vii) Sensitivity of Technology Contained in the Defense Article or Defense Services Proposed to be Sold: None

(viii) Date Report Delivered to Congress: September 7, 2022

* As defined in Section 47(6) of the Arms Export Control Act.

POLICY JUSTIFICATION

Pakistan—F-16 Case for Sustainment

The Government of Pakistan has requested to consolidate prior F-16 sustainment and support cases to support the Pakistan Air Force F-16 fleet by reducing duplicate case activities and adding additional continued support elements. Included are U.S. Government and contractor engineering, technical, and logistics services for follow-on support of Pakistan's F-16 fleet to include participation in F-16 Aircraft Structural Integrity Program, Electronic Combat International Security Assistance Program, International Engine Management Program, Engine Component Improvement Program, and other technical coordination groups; aircraft and engine hardware and software modifications and support; aircraft and engine spare repair/return parts, accessories and support equipment; classified and unclassified software and software support; publications, manuals, and technical documentation; precision measurement, calibration, lab equipment, and technical support services; studies and surveys; and other related elements of aircraft maintenance and program support. The estimated total cost is $450 million.

This proposed sale will support the foreign policy and national security objectives of the United States by improving the security of a partner nation that is a force for political stability in the region by allowing Pakistan to retain interoperability with U.S. and coalition forces in ongoing counterterrorism efforts and in preparation for future contingency operations.

The proposed sale will improve Pakistan's capability to meet current and future threats by continuing the sustainment of its F-16 fleet, which is the Pakistan Air Force's premier multi-role jet fighter and greatly improves Pakistan's ability to project combat power in support of counterterrorism through its robust air-to-ground capability. Pakistan will have no difficulty absorbing these articles and services into its armed forces.

The proposed sale of this equipment and support will not alter the basic military balance in the region.

The principal contractor will be Lockheed Martin Corporation, Fort Worth, TX. There are no known offsets proposed in conjunction with this sale.

Implementation of this proposed sale will not require the assignment of any additional U.S. Government or contractor representatives to Pakistan.

There will be no adverse impact on U.S. defense readiness as a result of this proposed sale.

[FR Doc. 2024-17041 Filed 8-1-24; 8:45 am]

BILLING CODE 6001-FR-P